NATIONAL AERONAUTICS AND SPACE ADMINISTRATION

48 CFR Parts 1852 and 1872

RIN 2700-AC33

Broad Agency Announcements

AGENCY: National Aeronautics and Space Administration (NASA).

ACTION: Final rule.

SUMMARY: This final rule adopts with changes the proposed rule published in the Federal Register on August 31, 2001. This final rule amends the NASA FAR Supplement (NFS) to require, when relevant, consideration of safety and risk-based acquisition management in NASA's broad agency announcements. This change will ensure consistency in the way safety and risk based acquisition management are treated in all NASA acquisitions.

EFFECTIVE DATE: October 1, 2002.

FOR FURTHER INFORMATION CONTACT: Paul Brundage, NASA, Office of Procurement, Analysis Division (Code HC), (202) 358-0481, or e-mail: paul.brundage@hq.nasa.gov.

SUPPLEMENTARY INFORMATION:

A. Background

NASA recently made several changes to the NFS to address safety and risk based acquisition management (RBAM) in the acquisition planning processes for negotiated procurements. This final rule makes corresponding changes to the proposal preparation processes for NASA's broad agency announcements (BAA). Two types of BAAs used by NASA include the Announcement of Opportunity (AO) and the NASA Research Announcement (NRA). This final rule amends the NASA FAR Supplement (NFS) to require, when relevant, consideration of safety and risk-based acquisition management in NASA's broad agency announcements. This change allows NASA to consider safety and RBAM as part of the proposal selection done under NASA's broad agency announcements. This change will ensure consistency in the way safety and RBAM are treated in all NASA acquisitions.

NASA published a proposed rule in the Federal Register at 66 FR 45955 on August 31, 2001. NASA received one comment on the proposed rule. The commenter suggested that risk analysis should not be imposed at early stages of research solely for consistency when it is unlikely there will be any identifiable risk that could benefit from a premature risk analysis. The commenter further recommended that NASA not require RBAM on BAAs unless the statement of work involved procurement, development, manufacture, and operation of hardware and equipment.

NASA included the phrase “where they are relevant” in its proposed rule because it agrees that in some cases the proposed work in response to a BAA may be so early in the development cycle that identification and discussion of risk factors may not be possible. However, NASA disagrees with the suggestion that risk factor identification and discussion occur only when the statement of work involves procurement, development, manufacture, and operation of hardware and equipment.

To ensure that the identification and discussion of risk factors is conducted when appropriate, NASA's proposed rule required the identification and discussion of risk factors and issues throughout the proposal “where they are relevant.”

Relevancy of risk should be easily determinable, even during the initial BAA process. For example, research involving flight hardware, hazardous material, or potentially dangerous operations includes identifiable risks. In other cases, it may indeed be too early in the research process to identify and discuss risk factors, so such a discussion would not be relevant.

Moreover, BAAs include information that will help a proposer in determining whether an identification and discussion of risks may be relevant. For instance, AO's include, as applicable, safety, reliability, and quality assurance provisions. NRAs contain programmatic information and certain requirements and will generally specify topics for which additional information or greater detail is desirable. NASA is ensuring that areas that may involve potential risk are highlighted in AOs and NRAs by requiring the participation of the appropriate NASA Safety Offices in the NRA and AO (by this rule) processes.

It is anticipated and understood that the identification of risk factors where relevant will be consistent with the level of information available at the time of the proposal. Therefore, no change is being made as a result of comments received. Minor grammatical changes have been made to NFS section 1872.307.

B. Regulatory Flexibility Act

NASA certifies that this final rule will not have a significant economic impact on a substantial number of small business entities under the Regulatory Flexibility Act (5 U.S.C. 601, et seq.) because it does not impose new requirements. Rather, it focuses attention on safety and risk management.

C. Paperwork Reduction Act

The Paperwork Reduction Act does not apply because the changes to the NFS do not impose any record keeping or information collection requirements, or collections of information from offerors, contractors, or members of the public that require the approval of the Office of Management and Budget under 44 U.S.C. 3501, et seq.

List of Subjects in 48 CFR Parts 1852 and 1872

Government procurement.

Tom Luedtke,
Assistant Administrator for Procurement.

Accordingly, 48 CFR parts 1852 and 1872 are amended as follows:

1. The authority citation for 48 CFR 1852 and 1872 continues to read as follows:

Authority: 42 U.S.C. 2473(c)(1).

PART 1852—SOLICITATION PROVISIONS AND CONTRACT CLAUSES

2. Amend the clause at section 1852.235-72 by revising the clause date, redesignating paragraph (c)(11)(ii) as (c)(11)(iii), and adding a new paragraph (c)(11)(ii) to read as follows:

1852.235-72 Instructions for responding to NASA Research Announcements.

* * * * *

Instructions for Responding to NASA Research Announcements (Oct. 2002)

* * * * *

(c) * * *

(11) * * *

(ii) Identify and discuss risk factors and issues throughout the proposal where they are relevant, and your approach to managing these risks.

* * * * *

PART 1872 —ACQUISITION OF INVESTIGATIONS

3. Amend paragraph (b) of section 1872.303 by adding the words “Office of Safety and Mission Assurance,” immediately after “Office of General Counsel,”.

4. Amend section 1872.307 by adding the following sentence at the end of paragraph (b) to read as follows:

1872.307 Guidelines for proposal preparation.

* * * * *

(b) * * * Investigators shall be required to identify and discuss risk factors and issues throughout the proposal where they are relevant, and describe their approach to managing these risks.

5. Amend section 1872.402, by redesignating paragraph (b)(7) as (b)(8), and adding a new paragraph (b)(7) to read as follows:

1872.402 Criteria for evaluation.

* * * * *

(b) * * *

(7) The proposed approach to managing risk (e.g., level of technology maturity being applied or developed, technical complexity, performance specifications and tolerances, delivery schedule, etc.).

* * * * *

6. Amend section 1872.705 by redesignating sections II, III, IV, V, VI, VII, VIII, and IX as III, IV, V, VI, VII, VIII, IX, and X respectively, and adding a new section II to read as follows:

1872.705 Format of Announcement of Opportunity (AO).

* * * * *

II. NASA's Safety Priority

Safety is the freedom from those conditions that can cause death, injury, occupational illness, damage to or loss of equipment or property, or damage to the environment. NASA's safety priority is to protect:

(1) The public,

(2) Astronauts and pilots,

(3) The NASA workforce (including NASA employees working under NASA instruments), and

(4) High-value equipment and property.

* * * * *

[FR Doc. 02-24774 Filed 9-30-02; 8:45 am]

BILLING CODE 7510-01-P